DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Mental Health Services Survey (N-MHSS) (OMB No. 0930-0119)—Revision

The Substance Abuse and Mental Health Services Administration (SAMHSA), Center for Behavioral Health Statistics and Quality (CBHSQ), is requesting a revision to the National Mental Health Services Survey (N-MHSS) (OMB No. 0930-0119), which expires on June 30, 2015. The N-MHSS provides national and state-level data on the number and characteristics of mental health treatment facilities in the United States, annually, and national and state-level data on the number and characteristics of persons treated in these facilities, biennially.

An immediate need under N-MHSS is to update the information about facilities on SAMHSA's online Behavioral Health Treatment Services Locator (see: http://findtreatment.samhsa.gov), which was last updated with information from the abbreviated N-MHSS (N-MHSS-Locator Survey) in 2012. A full-scale N-MHSS will be conducted in 2014 and 2016 to collect (1) the information about facilities needed to update the online Locator, such as the facility name and address, specific services offered, and special client groups served, and (2) additional information including client counts and the demographics of persons treated in these facilities. An abbreviated N-MHSS (N-MHSS-Locator Survey) will be conducted in 2015 to update the information about facilities on the online Locator. A data collection in conjunction with adding new facilities to the online Locator as they become known to SAMHSA is also being requested. Both the 2015 N-MHSS-Locator Survey and the addition of new facilities to the online Locator will use the same N-MHSS-Locator Survey instrument.

This requested revision seeks to change the content of the currently approved abbreviated N-MHSS (i.e., N-MHSS-Locator) survey instrument, and the previously approved 2010 full-scale N-MHSS (OMB No. 0930-0119) to accommodate two related N-MHSS activities:

(1) collection of information from the total N-MHSS universe of mental health treatment facilities during 2014, 2015, and 2016; and

(2) collection of information on newly identified facilities throughout the year, as they are identified, so that new facilities can quickly be added to the online Locator.

The survey mode for both data collection activities will be web with telephone follow-up.

The database resulting from the N-MHSS will be used to update SAMHSA's online Behavioral Health Treatment Services Locator and to produce a national directory of mental health facilities on compact disk (CD), both for use by the general public, behavioral health professionals, and treatment service providers. In addition, a data file derived from the survey will be used to produce a summary report providing national and state-level data. The report and a public-use data file will be used by researchers, mental health professionals, State governments, the U.S. Congress, and the general public.

The request for OMB approval will include a request to conduct the full-scale N-MHSS in 2014 and 2016 and an abbreviated N-MHSS-Locator survey in 2015.

The following table summarizes the estimated annual response burden for the N-MHSS:

Estimated Annual Response Burden for the N-MHSS
Type of respondent | Number of respondents | Responses per respondent | Average hours per response | Total burden hours
Facilities in full-scale N-MHSS universe in 2014 and 2016 | 17,000 | 1 | 0.75 | 12,750
Newly identified facilities in Between-Survey Update in 2014, 2015, and 2016 ¹ | 1,700 | 1 | 0.42 | 714
Facilities in N-MHSS-Locator Survey universe in 2015 | 17,000 | 1 | 0.42 | 7,140
Average Annual Total | 18,700 | 1 | 0.62 | 11,594
¹ Collection of information on newly identified facilities throughout the year, as they are identified, so that new facilities can quickly be added to the Locator.

Send comments to Summer King, SAMHSA Reports Clearance Officer, Room 2-1057, One Choke Cherry Road, Rockville, MD 20857 or email her a copy at summer.king@samhsa.hhs.gov. Written comments should be received by November 5, 2013.

Summer King,
Statistician.

[FR Doc. 2013-21700 Filed 9-5-13; 8:45 am]

BILLING CODE 4162-20-P